ENVIRONMENTAL PROTECTION AGENCY

[ER-FRL-6353-9]

Environmental Impact Statements and Regulations; Availability of EPA Comments

Availability of EPA comments prepared April 17, 2000 through April 21, 2000 pursuant to the Environmental Review Process (ERP), under Section 309 of the Clean Air Act and section 102(2)(c) of the National Environmental Policy Act as amended. Requests for copies of EPA comments can be directed to the Office of Federal Activities at (202) 564-7167.

An explanation of the ratings assigned to draft environmental impact statements (EISs) was published in FR dated April 09, 1999 (63 FR 17856).

Draft EISs

ERP No. D-DOE-E09806-TN Rating EC2, Treating Transuranic (TRU)/Alpha Low-Level Waste at the Oak Ridge National Laboratory, Construct, Operate, and Decontaminate/Decommission of Waste Treatment Facility, Oak Ridge, TN.

Summary: EPA expressed environmental concerns regarding the issue of process releases and the resulting risk to humans. EPA requested that additional information be provide on the risk issue and the preferred alternative.

ERP No. D-TVA-E65054-TN Rating EC2, Tellico Reservoir Land Management Plan, Implementation of Seven Mainstream and Two Tributary Reservoirs, Blount, Loudon and Monroe, TN.

Summary: EPA expressed concerns with aspects of some of the proposed zones, such as planned timber harvesting and certain commercial/industrial development. EPA suggested that the Plan be revised to eliminate or minimize timber harvesting of circumferential reservoir lands and islands and eliminate incompatible forms of commercial and industrial development.

Final EISs

ERP No. F-BIA-A65165-00 Programmatic EIS—Navajo Ten Year Forest Management Plan Alternatives, Implementation and Funding, AZ and NM.

Summary: No formal comment letter was sent to the preparing agency.

Dated: May 2, 2000
Joseph C. Montgomery,
Director, NEPA Compliance Director, Office of Federal Activities.

[FR Doc. 00-11308 Filed 5-4-00; 8:45 am]

BILLING CODE 6560-50-U